DEPARTMENT OF COMMERCE

International Trade Administration

[A-570-106]

Wooden Cabinet and Vanities and Components Thereof From the People's Republic of China: Final Results and Final Determination of No Shipments of the Antidumping Duty Administrative Review; 2021-2022

AGENCY: Enforcement and Compliance, International Trade Administration, Department of Commerce.

SUMMARY: The U.S. Department of Commerce (Commerce) determines that Fujian Dushi Wooden Industry Co., Ltd. (Dushi) and The Ancientree Cabinet Co., Ltd. (Ancientree) made sales of wooden cabinets and vanities and components thereof (cabinets) at prices below normal value and eight companies had no shipments of subject merchandise during the period of review (POR) April 1, 2021, through March 31, 2022.

DATES: Applicable November 7, 2023.

FOR FURTHER INFORMATION CONTACT: Jacob Keller, AD/CVD Operations, Office I, Enforcement and Compliance, International Trade Administration, U.S. Department of Commerce, 1401 Constitution Avenue NW, Washington, DC 20230; telephone: (202) 482-4849.

SUPPLEMENTARY INFORMATION:

Background

On May 5, 2023, Commerce published in the Federal Register the Preliminary Results of the antidumping duty administrative review and invited interested parties to comment.¹ For a complete description of the events that occurred since Commerce published the Preliminary Results, see the Issues and Decision Memorandum.² On August 14, 2023, we extended the deadline for these final results to November 1, 2023.³ Commerce conducted this review in accordance with section 751(a) of the Tariff Act of 1930, as amended (the Act).

¹ See Wooden Cabinets and Vanities and Components Thereof from the People's Republic of China: Preliminary Results, Preliminary Determination of No Shipments, and Partial Recission of the Antidumping Duty Administrative Review; 2021-2022, 88 FR 29086 (May 5, 2023) (Preliminary Results), and accompanying Preliminary Decision Memorandum.

² See Memorandum, “Issues and Decision Memorandum for the Final Results of the Antidumping Duty Administrative Review of Wooden Cabinets and Vanities and Components Thereof from the People's Republic of China; 2021-2022,” dated concurrently with, and hereby adopted by, this notice (Issues and Decision Memorandum).

³ See Memorandum, “Extension of Deadline for Final Results of Antidumping Duty Administrative Review,” dated August 14, 2023.

Scope of the Order ⁴

⁴ See Wooden Cabinets and Vanities and Components Thereof from the People's Republic of China: Antidumping Duty Order, 85 FR 22126 (April 21, 2020) (Order).

The products covered by this Order are wooden cabinets and vanities that are for permanent installation (including floor mounted, wall mounted, ceiling hung or by attachment of plumbing), and wooden components thereof. For full description of the scope of the Order, see the Issues and Decision Memorandum.

Analysis of Comments Received

All issues raised in the parties' briefs are addressed in the Issues and Decision Memorandum. A list of the issues addressed is included as Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes from the Preliminary Results

Based on our analysis of the comments received, Commerce made certain revisions to the calculations of the preliminary weighted-average dumping margins assigned to Ancientree and Dushi, and the non-examined separate rate respondents. Commerce is also assigning separate rates to Suzhou Siemo Wood Import & Export Co., Ltd. (Siemo) and Jiangsu Weisen Houseware Co., Ltd. (Jiangsu Weisen). Regarding Siemo, we are accepting its separate rate certification because it has a suspended entry of subject merchandise that entered the United States during the POR. Regarding Jiangsu Weisen, we find that the entries associated with Weisen Housewares Co., Ltd. (Weisen) are entries of subject merchandise applicable to Jiangsu Weisen. Further, based on information on the record, we are now considering Weisen to be the same entity as Jiangsu Weisen. As a result, we are assigning Jiangsu Weisen a separate rate and no longer consider Weisen to be part of the China-wide entity. The Issues and Decision Memorandum contains a more detailed discussion of these revisions.

Final Determination of No Shipments

In the Preliminary Results, Commerce determined that certain companies did not have shipments of subject merchandise during the POR.⁵ As we received no information to contradict our preliminary determination with respect to those companies, we continue to find that they made no shipments of subject merchandise to the United States during the POR. Additionally, we find that Siemo had shipments of subject merchandise during the POR and, therefore, are granting Siemo a separate rate in this administrative review.⁶ Accordingly, we will issue appropriate instructions that are consistent with our “automatic assessment” clarification for the no shipment companies listed in Appendix II.⁷

⁵ See Preliminary Results, 88 FR at 29087.

⁶ See Issues and Decision Memorandum at Comment 8.

⁷ See Non-Market Economy Antidumping Proceedings: Assessment of Antidumping Duties, 76 FR 65694 (October 24, 2011) (Assessment Notice).

Rates for Non-Examined Separate Rate Respondents

Commerce determines that 25 companies, not individually examined, are eligible for separate rates in this administrative review.⁸ The Act and Commerce's regulations do not address the establishment of a separate rate to be applied to companies not selected for individual examination when Commerce limits its examination in an administrative review pursuant to section 777A(c)(2) of the Act. Generally, Commerce looks to section 735(c)(5) of the Act, which provides instructions for calculating the all-others rate in an investigation, for guidance when calculating the rate for separate rate respondents which Commerce did not examine individually in an administrative review. Section 735(c)(5)(A) of the Act states that the all-others rate should be calculated by averaging the weighted-average dumping margins calculated for individually-examined respondents, excluding dumping margins that are zero, de minimis, or based entirely on facts available. Accordingly, in the final results of review, we are assigning to the non-selected separate rate respondents an estimated weighted-average dumping margin based on the average of Ancientree's and Dushi's rates weighted by their publicly available ranged U.S. sales values.⁹

⁸ See Appendix II.

⁹ As explained in the Issues and Decision Memorandum, because there are only two relevant weighted-average dumping margins for these preliminary results, using a weighted average of these two rates risks disclosure of business proprietary information (BPI) data.

China-Wide Entity

Commerce considers all other companies, listed in Appendix II of this notice, for which a review was requested, and which did not demonstrate separate rate eligibility, to be part of the China-wide entity.

Final Results of Administrative Review

Commerce determines that the following weighted-average dumping margin exists for the administrative review covering the period April 1, 2021, through March 31, 2022:

¹⁰ See Appendix II.

Exporter | Weighted- average dumping margin (percent)
Fujian Dushi Wooden Industry Co., Ltd | 43.40
The Ancientree Cabinet Co., Ltd | 8.26
Non-Selected Companies Under Review Receiving a Separate Rate ¹⁰ | 12.03

Disclosure

Pursuant to 19 CFR 351.224(b), within five days of the publication of this notice in the Federal Register, we will disclose to the parties to this proceeding, the calculations that we performed for these final results of review.

Assessment Rates

Pursuant to section 751(a)(2)(C) of the Act and 19 CFR 351.212(b), Commerce intends to determine, and U.S. Customs and Border Protection (CBP) shall assess, antidumping duties on all appropriate entries of subject merchandise in accordance with these final results of review. Pursuant to 19 CFR 351.212(b)(1), for Ancientree and Dushi, because we do not have entered values for all U.S. sales to a particular importer (or customer), Commerce calculated importer-specific per-unit assessment rates by dividing the total amount of dumping for reviewed sales of subject merchandise to that importer by the total quantity sold to that importer. Where an importer-specific per-unit assessment rate is zero or de minimis (i.e., less than 0.5 percent), Commerce will instruct CBP to liquidate appropriate entries without regard to antidumping duties.¹¹

¹¹ See 19 CFR 351.106(c)(2).

For all non-selected separate rate applicants subject to this review, we will instruct CBP to liquidate all entries of subject merchandise that entered the United States during the POR at the weighted-average of the rates calculated for Ancientree and Dushi, as listed above. For entries of subject merchandise during the POR produced by Ancientree and Dushi for which they did not know their merchandise was destined for the United States, we intend to instruct CBP to liquidate such entries at the China-wide rate if there is no rate for the intermediate company or companies involved in the transaction.

Consistent with Commerce's assessment practice in non-market economy cases, for the companies which Commerce determined had no shipments of the subject merchandise, any suspended entries made under those exporters' case numbers (i.e., at the exporters' rates) will be liquidated at the China-wide rate.¹²

¹² For a full discussion of this practice, see Assessment Notice.

Commerce intends to issue assessment instructions to CBP no earlier than 35 days after the date of publication of the final results of review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for the companies subject to this review will be the rate established in these final results of the review; (2) for previously investigated or reviewed Chinese and non-Chinese exporters not listed above that have separate rates, the cash deposit rate will continue to be the exporter-specific rate published for the most recently completed segment of this proceeding in which they were reviewed; (3) for all Chinese exporters of subject merchandise that have not been found to be entitled to a separate rate, the cash deposit rate will be equal to the weighted-average dumping margin for the China-wide entity (i.e., 251.64 percent); and (4) for all non-Chinese exporters of subject merchandise which have not received their own separate rate, the cash deposit rate will be the rate applicable to the Chinese exporter(s) that supplied that non- Chinese exporter.¹³ These cash deposit requirements, when imposed, shall remain in effect until further notice.

¹³ See Order, 85 FR at 22126.

Notification to Importers

This notice also serves as a final reminder to importers of their responsibility under 19 CFR 351.402(f) to file a certificate regarding the reimbursement of antidumping and/or countervailing duties prior to liquidation of the relevant entries during this POR Failure to comply with this requirement could result in Commerce's presumption that reimbursement of antidumping and/or countervailing duties occurred and the subsequent assessment of double antidumping duties, and/or an increase in the amount of antidumping duties by the amount of countervailing duties.

Administrative Protective Order

This notice also serves as a final reminder to parties subject to an administrative protective order (APO) of their responsibility concerning the return or destruction of proprietary information disclosed under APO in accordance with 19 CFR 351.305(a)(3), which continues to govern BPI in this segment of the proceeding. Timely written notification of the return or destruction of APO materials, or conversion to judicial protective order, is hereby requested. Failure to comply with the regulations and terms of an APO is a sanctionable violation.

Notification to Interested Parties

We are issuing and publishing these final results of review in accordance with sections 751(a)(l), 751(a)(2)(B), and 777(i) of the Act.

Dated: November 1, 2023.
Lisa W. Wang,
Assistant Secretary for Enforcement and Compliance.

Appendix I

List of Topics Discussed in the Issues and Decision Memorandum

I. Summary

II. Background

III. Scope of the Order

IV. Changes from the Preliminary Results

V. Discussion of the Issues

Comment 1: Whether Commerce Should Apply Total Adverse Facts Available (AFA) to Ancientree

Comment 2: Whether Commerce Should Select Malayasia as the Primary Surrogate Country (SC)

Comment 3: Whether Commerce Should Revise the Respondents' Sigma Freight Calculations

Comment 4: Whether Commerce Should Revise Certain Surrogate Values (SV)

Comment 5: Whether Commerce Should Exclude Russian Non-Market Economy (NME) Imports into Bulgaria

Comment 6: Whether Commerce Should Revise the Respondents' Wood Density Values

Comment 7: Whether Commerce Should Assign Jiangsu Wisen Houseware Co., Ltd. (Jinagsu Wiesen) and Weisen Houseware Co., Ltd. (Weisen), a Separate Rate

Comment 8: Whether Commerce Should Accept Suzhou Siemo Wood Import & Export Co., Ltd.'s (Siemo) No Shipment Certification

Comment 9: Whether Commerce Should Clarify its No Shipment Policy

VI. Recommendation

Appendix II

No Shipment Companies

1. Dalian Hualing Wood Co., Ltd.

2. Dalian Meisen Woodworking Co., Ltd.

3. Guangzhou Nuolande Import and Export Co., Ltd.

4. Hangzhou Hoca Kitchen & Bath Products Co., Ltd.

5. Linyi Kaipu Furniture Co., Ltd.

6. Senke Manufacturing Company

7. Shandong Longsen Woods Co., Ltd.

8. Shouguang Fushi Wood Co., Ltd.

Non-Selected Companies Under Review Receiving a Separate Rate

1. Anhui Xinyuanda Cupboard Co., Ltd.

2. Dongguan Ri Sheng Home Furnishing Articles Co., Ltd.

3. Goldenhome Living Co., Ltd.

4. Jiang Su Rongxin Wood Industry Co., Ltd. (Formerly known as Jiang Su Rongxin Cabinets Ltd.)

5. Jiangsu Sunwell Cabinetry Co., Ltd.

6. Jiangsu Weisen Houseware Co., Ltd; Weisen Houseware Co., Ltd.

7. KM Cabinetry Co., Ltd.

8. Kunshan Baiyulan Furniture Co., Ltd.

9. Morewood Cabinetry Co., Ltd.

10. Nantong Aershin Cabinets Co., Ltd.

11. Quanzhou Ample Furnishings Co., Ltd.

12. Qufu Xinyu Furniture Co., Ltd.

13. Shanghai Beautystar Cabinetry Co., Ltd.

14. Shanghai Zifeng International Trading Co., Ltd.

15. Sheen Lead International Trading (Shanghai) Co., Ltd.

16. Suzhou Siemo Wood Import & Export Co., Ltd.

17. Taishan Oversea Trading Co., Ltd.

18. Taizhou Overseas Int'l Ltd.

19. Tech Forest Cabinetry Co., Ltd.

20. Weifang Fuxing Wood Co., Ltd.

21. Xiamen Adler Cabinetry Co., Ltd.

22. Yichun Dongmeng Wood Co., Ltd.

23. Yixing Pengjia Technology Co., Ltd. (Formerly known as Yixing Pengjia Cabinetry Co., Ltd.)

24. Zhangzhou OCA Furniture Co., Ltd.

25. Zhoushan For-strong Wood Co., Ltd.

Companies Considered To Be Part of the China-Wide Entity

1. Deqing Meisheng Import and Export Co., Ltd.

2. Fujian Senyi Kitchen Cabinet Co., Ltd.

3. Fuzhou Hauster Kitchen Cabinet Manufacturing Co., Ltd.

4. Fuzhou Pyrashine Trading Co., Ltd.

5. Jiang Su Rongxin Import and Export Co., Ltd.

6. Linshu Meibang Furniture Co., Ltd.

7. Shanghai Zifeng Industries Development Co., Ltd.

8. Shenzhen Pengchengzhirong Trade Co., Ltd.

9. Weihai Jarlin Cabinetry Manufacture Co., Ltd.

10. Xiamen Got Cheer Co., Ltd.

11. Yindu Kitchen Equipment Co., Ltd.

12. Zaozhuang New Sharp Import & Export Trading Co., Ltd.

13. ZBOM Cabinets Co., Ltd.

14. Zhongshan KM Cabinetry Co., Ltd.

[FR Doc. 2023-24602 Filed 11-6-23; 8:45 am]

BILLING CODE 3510-DS-P